ENVIRONMENTAL PROTECTION AGENCY

40 CFR Part 52

[EPA-R08-OAR-2017-0216; FRL-9963-42-Region 8]

Attainment Date Extensions for the Logan, Utah-Idaho 24-Hour Fine Particulate Matter Nonattainment Area

AGENCY: Environmental Protection Agency (EPA).

ACTION: Proposed rule.

SUMMARY: The Environmental Protection Agency (EPA) is proposing to grant two, one-year extensions to the Moderate attainment date for the 2006 24-hour fine particulate matter (PM2.5) Logan, Utah (UT)-Idaho (ID) nonattainment area. This action is based on the EPA's evaluation of air quality monitoring data and extension requests submitted by the State of Utah on May 2, 2017, and the State of Idaho on December 15, 2015, February 26, 2016, and April 25, 2017. The EPA is proposing to grant a one-year extension of the Moderate attainment date from December 31, 2015 to December 31, 2016, and is proposing to grant a second one-year extension of the Moderate attainment date from December 31, 2016 to December 31, 2017, in accordance with section 188(d) of the Clean Air Act (CAA).

DATES: Written comments must be received on or before July 6, 2017.

ADDRESSES: Submit your comments, identified by Docket ID No. EPA-R08-OAR-2017-0216 at https://www.regulations.gov. Follow the online instructions for submitting comments. Once submitted, comments cannot be edited or removed from www.regulations.gov. The EPA may publish any comment received to the public docket. Do not submit electronically any information you consider to be Confidential Business Information (CBI) or other information, the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Crystal Ostigaard, Air Program, EPA, Region 8, Mailcode 8P-AR, 1595 Wynkoop Street, Denver, Colorado 80202-1129, (303) 312-6602, ostigaard.crystal@epa.gov.

SUPPLEMENTARY INFORMATION:

I. General Information

a. Submitting CBI. Do not submit CBI to the EPA through www.regulations.gov or email. Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

b. Tips for Preparing Your Comments. When submitting comments, remember to:

1. Identify the rulemaking by docket number and other identifying information (subject heading, Federal Register date and page number).

2. Follow directions—The agency may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. Background

A. Designation and Classification of PM2.5 Nonattainment Areas

On October 17, 2006 (71 FR 61144), the EPA revised the level of the 24-hour PM2.5 National Ambient Air Quality Standard (NAAQS), lowering the primary and secondary standards from the 1997 standard of 65 micrograms per cubic meter (µg/m³) to 35 µg/m³. On November 13, 2009 (74 FR 58688), the EPA designated a number of areas as nonattainment for the 24-hour PM2.5 NAAQS of 35 µg/m³, including the Logan, UT-ID nonattainment area. The EPA originally designated these areas under the general provisions of CAA title I, part D, subpart 1 (“subpart 1”), under which attainment plans must provide for the attainment of a specific NAAQS (in this case, the 2006 PM2.5 standards) as expeditiously as practicable, but no later than five years from the date the areas were designated nonattainment.

Following this designation of nonattainment for PM2.5 and consistent with EPA guidance, the State of Utah and the State of Idaho developed PM2.5 attainment plans intended to meet the general requirements of subpart 1. Utah and Idaho each submitted a PM2.5 state implementation plan (SIP) for the Logan, UT-ID nonattainment area on December 14, 2012. On May 9, 2013, Utah submitted a SIP that contained multiple area source rules intended to reduce emissions in the PM2.5 nonattainment areas.

Subsequently, on January 4, 2013, the U.S. Court of Appeals for the District of Columbia Circuit held that the EPA should have implemented the 2006 24-hour PM2.5 standard based on both the general nonattainment area requirements in subpart 1 and the PM-specific requirements of CAA title I, part D, subpart 4 (“subpart 4”). Under subpart 4, PM nonattainment areas are initially classified as Moderate, and Moderate area attainment plans must address the requirements of subpart 4 as well as subpart 1. Additionally, CAA subpart 4 establishes a different SIP submittal due date and attainment year. For a Moderate PM2.5 nonattainment area, the attainment SIP is due no later than 18 months after designation and the attainment year is as expeditiously as practicable after designation but no later than the end of the sixth calendar year after designation. On June 2, 2014 (79 FR 31566), the EPA finalized the Identification of Nonattainment Classification and Deadlines for Submission of State Implementation Plan (SIP) Provisions for the 1997 Fine Particulate (PM2.5) NAAQS and 2006 PM2.5 NAAQS (“the Classification and Deadlines Rule”). This rule classified the areas that were designated in 2009 as nonattainment to Moderate, and set the attainment SIP submittal due date for those areas at December 31, 2014. This rule did not affect the Moderate area attainment date of December 31, 2015.

After the court's decision, on December 16, 2014, the Utah Department of Air Quality (UDAQ) withdrew all prior Logan, UT-ID PM2.5 SIP submissions and submitted a new SIP to address both the general requirements of subpart 1 and the PM-specific requirements of subpart 4 for Moderate areas. Additionally, on December 24, 2014, the Idaho Department of Environmental Quality (IDEQ) submitted a supplement to the 2012 SIP submission (“2014 amendment”) that included additional analyses intended to meet CAA subpart 4 requirements.

On August 24, 2016, the EPA finalized the Fine Particulate Matter National Ambient Air Quality Standards: State Implementation Plan Requirements (“PM2.5 Implementation Rule”), 81 FR 58010, which addressed the January 4, 2013 court ruling. The final implementation rule provides the EPA's interpretation of the requirements applicable to PM2.5 nonattainment areas and explains how air agencies can meet the statutory SIP requirements that apply under subparts 1 and 4 to areas designated nonattainment for any PM2.5 NAAQS, such as: General requirements for attainment plan due dates and attainment demonstrations; provisions for demonstrating reasonable further progress; quantitative milestones; contingency measures; nonattainment new source review (NNSR) permitting programs; and reasonably available control measures (RACM) (including reasonably available control technology (RACT). The statutory attainment planning requirements established in subparts 1 and 4 are designed to ensure that states implement measures that provide for attainment of the PM2.5 NAAQS as expeditiously as practicable by requiring states to adopt feasible emissions reduction strategies for PM2.5 and its precursors to achieve incremental reductions leading to attainment of the PM2.5 NAAQS in nonattainment areas.

B. CAA Requirements for an Attainment Date Extension

Under CAA section 188(d), the EPA may grant a state's request to extend the attainment date for a Moderate area if: “(1) the state has complied with all requirements and commitments pertaining to the area in the applicable implementation plan; and (2) no more than one exceedance of the 24-hour [NAAQS] level for PM10 has occurred in the area in the year preceding the Extension Year, and the annual mean concentration for PM10 in the area for such year is less than or equal to the standard level.” The EPA cannot issue more than two, one-year extensions for a single Moderate area.

The PM2.5 Implementation Rule interprets section 188(d) for PM2.5 Moderate areas. Under the regulations, the EPA may grant an extension if the agency determines that: (1) The state has complied with all requirements and commitments pertaining to the area in the applicable implementation plan; and (2) for an area designated nonattainment for the 24-hour PM2.5 NAAQS for which the state seeks an attainment date extension, the 98th percentile 24-hour concentration at each monitor in that area for the calendar year that includes the applicable attainment date is less than or equal to the level of the applicable 24-hour standard (calculated according to the data analysis requirements in 40 CFR part 50, appendix N). 40 CFR 51.1005(a)(1). The applicable implementation plan is defined as the plan submitted to meet Moderate area requirements. Id. § 51.1005(a)(2). The PM2.5 Implementation Rule explains that, to meet the first criterion, a state needs to show that it has “submitted the necessary attainment plan for the area for the applicable PM2.5 NAAQS and is implementing the control measures in the submission.” 81 FR 58070/3.

In the absence of an attainment date extension, upon a determination of failure to attain by the EPA, the area would be reclassified to Serious by operation of law under CAA section 188(b)(2). If an extension to the attainment date is granted, the EPA must determine whether the area attained the PM2.5 NAAQS at the end of the extension year. If the requisite three consecutive years of air quality data needed to determine attainment are still not available after the first extension, the state may apply for a second one-year extension of the attainment date if the requirements listed above for the first extension remain satisfied. The EPA will also consider the state's PM2.5 planning progress for the area in the year for which the first extension is granted, and if the area does not have the requisite three consecutive years of air quality data needed to demonstrate attainment at the end of the second extension, no further extensions of the attainment date can be granted. Once a final determination of failure to attain is made by the EPA and published in the Federal Register, the area will be reclassified as Serious by operation of law. See CAA section 188(b)(2).

As a Moderate PM2.5 nonattainment area, the Logan, UT-ID nonattainment area was required by CAA section 188 to attain the 24-hour PM2.5 NAAQS by December 31, 2015. On December 15, 2015, and February 26, 2016, the State of Idaho requested that the EPA use the discretion allowed under CAA section 188(d) to grant a one-year extension to the Moderate area attainment date for Logan, UT-ID, from December 31, 2015 to December 31, 2016. In a proposed action published December 16, 2016,¹ the EPA denied Idaho's request because at the time the nonattainment area did not meet the air quality criterion under CAA section 188(d). Specifically, the Logan, Utah Federal Reference Method (FRM) monitor used for determining compliance with the PM2.5 NAAQS did not have complete and valid 2015 data in accordance with EPA regulations (81 FR 91088). As a result, the EPA could not determine that the data for the Logan monitor met the 98th percentile requirement set forth in 40 CFR 51.1005(a)(1).

¹ Determinations of Attainment by the Attainment Date, Determinations of Failure to Attain by the Attainment Date and Reclassification for Certain Nonattainment Areas for the 2006 24-hour Fine Particulate Matter National Ambient Air Quality Standards, 81 FR 91088 (Dec. 16, 2016).

Following this proposed action, and as a result of subsequent events described below, the State of Idaho submitted a letter on April 25, 2017, requesting a second one-year Moderate area attainment date extension, from December 31, 2016 to December 31, 2017. On May 2, 2017, the State of Utah requested two, one-year extensions of the attainment date for the Logan, UT-ID nonattainment area, from December 31, 2015 to December 31, 2016, and then December 31, 2016 to December 31, 2017. Each of the extension requests from Idaho and Utah can be found in the Region 8 and Region 10 dockets for the Logan, UT-ID nonattainment area proposed extension request actions, EPA-R08-OAR-2017-0216 and EPA-R10-OAR-2017-0193.

III. Basis for EPA's Proposed Action

A. Compliance With the Applicable SIP

The PM2.5 Implementation Rule interprets the extension provisions found in CAA section 188(d)(1). See 40 CFR 51.1005(a)(1). Under the rule, a state must show that it submitted a SIP to meet the requirements as listed in 40 CFR 51.1003(a), including the necessary control measures, and that RACM/RACT and additional reasonable measures for sources in the area have been implemented. To qualify for an extension, the state must have adopted the SIP revision through the established state process, submitted the plan to the EPA, and begun implementing the plan; but the state plan would not need to have been approved by the EPA in order for the state to qualify for an extension.

On December 4, 2012, UDAQ submitted a SIP for the Utah portion of the Logan, UT-ID PM2.5 nonattainment area, and was prepared to satisfy the requirements of CAA subpart 1, as interpreted by the EPA's Clean Air Fine Particle Implementation Rule (72 FR 20586, April 25, 2007). After the January 4, 2013, D.C. Circuit ruling and subsequent EPA Classification and Deadlines Rule, the State of Utah withdrew the original SIP submittal and submitted an updated SIP to cover CAA subpart 1 and subpart 4 on December 22, 2014. This SIP includes: (1) A modeled attainment demonstration (chapter 5 of the SIP and chapter 4 of the technical support document (TSD)); (2) an emissions inventory (chapter 4 of the SIP and chapter 3 of the TSD); (3) RACM for area and on-road mobile sources (chapter 6 of the SIP and chapter 5 of the TSD); (4) a RACT review (chapter 6 of the SIP and chapter 5 of the TSD); (5) reasonable further progress for direct PM2.5, nitrogen oxides (NOX), sulfur dioxide (SO2), and volatile organic compounds (VOC) (chapter 8 of the SIP); (6) a demonstration that ammonia is not a significant precursor to PM2.5 in the area (chapter 4 of the TSD); (7) motor vehicle emission budgets (chapter 7 of the SIP); (8) quantitative milestones (chapter 8 of the SIP); and (9) contingency measures (chapter 9 of the SIP). The EPA intends to take action on the December 22, 2014 SIP in the near future. The Utah SIP and supporting materials, including the TSD, can be found in the docket for this action. The Idaho SIP and supporting materials can be found in Region 10's docket, EPA-R10-OAR-2015-0067. Additionally, the supporting documentation for ID's two one-year extension requests can be found in Region 10's docket, EPA-R10-OAR-2017-0193.

EPA has reviewed Utah's existing SIP and the December 22, 2014, SIP submission and determined that the state is implementing the requirements and commitments in the submitted SIP. Based on this, the EPA proposes to determine that the state meets the criterion found in 40 CFR 51.1005(a)(1)(i). The control measures that Utah submitted for the Logan UT-ID NAA consist of a vehicle inspection and maintenance (I/M) program and area source rules. The EPA approved the vehicle I/M program on September 9, 2015 (80 FR 54237). The program was initiated on January 1, 2014, and requires a biennial test for vehicles greater than six years old that are of model year 1969 and newer. Half of these vehicles were tested for the first time in 2014 and the rest were tested in 2015; prior to the attainment date for the area. The EPA has also approved or conditionally approved the area source rules submitted by the State. 81 FR 9343; 81 FR 71988. Some of the area source rules were implemented as early as January 1, 2013, but most carried an implementation date of December 1, 2014. All of them were effective and fully enforceable by January 1, 2015.

Similarly, the EPA approved Idaho's woodstove curtailment ordinances, burn ban, heating device restrictions, and woodstove change-out programs as meeting the RACM/RACT requirements in this area (82 FR 729, January 4, 2017). The woodstove curtailment ordinances, burn ban, and heating device restrictions were adopted and fully implemented in the summer and fall of 2012 in preparation for Idaho's December 14, 2012 attainment plan SIP revision. The residential woodstove change-out program was conducted in 2011 to 2012, with a subsequent round of change-outs in 2013 to 2014. A full description of the control measures is included in our December 26, 2013 proposed approval (78 FR 78315) and March 25, 2014 final approval (79 FR 16201). On April 25, 2017, Idaho committed to supplementing the 2012 attainment plan SIP revision, and Idaho's December 24, 2014 amendment to the attainment plan SIP revision, to comply with the revised regulatory requirements of the 2016 PM2.5 Implementation Rule for reasonable further progress, quantitative milestones, and motor vehicle emissions budgets. The EPA's proposed conditional approval of these SIP elements is addressed under docket number EPA-R10-OAR-2015-0067.

The EPA proposes that the criterion found in 40 CFR 51.1005(a)(1)(i) has been met. Utah and Idaho submitted SIPs for the Logan, UT-ID Moderate PM2.5 nonattainment area that address the CAA requirements for Moderate areas and the states have implemented the permanent and enforceable control measures identified above and the other requirements of the SIPs.

B. Air Quality Data

In accordance with 40 CFR part 58, UDAQ and IDEQ both operate PM2.5 monitors in the Logan, UT-ID PM2.5 nonattainment area. The IDEQ monitoring site for 2015 and 2016 was located in Franklin, Idaho. In 2015, UDAQ operated two PM2.5 monitoring sites, at Logan and Smithfield, and in 2016, UDAQ operated only the Smithfield monitoring site. In the past, the monitor with the highest air quality design value in the nonattainment area has been located in Utah.

As explained in the May 8, 2017 memorandum in the docket, a large number of samples from the filter-based FRM monitor at Logan were invalid. After review of the PM2.5 data for 2015, UDAQ removed the invalid samples for its filter based FRM monitor and left the valid samples in the Air Quality System (AQS) database. Additionally, some continuous sampler data from a co-located Federal Equivalent Methods (FEM) monitor were determined to have sufficient quality assurance to meet NAAQS comparison requirements. The Logan site had one FEM monitor co-located at the site, and data from this monitor were used to fill in some of the missing days in 2015, adding to the total number of samples that can be used to determine a 98th percentile value for that year and to provide for a complete 2015 monitoring year. Utah used the methodology found in 40 CFR part 50, appendix N 3.0(d)(2) and 40 CFR part 50, appendix N 3.0(e) to substitute FEM data for the days without FRM data.

The EPA has reviewed this site and, using the criteria found in 40 CFR part 58, appendix A, has determined that the quality assurance (QA) for the continuous FEM monitor is acceptable such that data from the FEM monitor can be substituted for the days for which the FRM monitor data was invalid. Additional information related to these monitors can be found in the November 23, 2016 memoranda found in the docket for this proposed action.

On March 14, 2017, the EPA approved Utah's 2016 Annual Monitoring Network Plan (AMNP). As part of the approval, the EPA approved the closing of the Logan monitoring station (AQS ID# 49-005-0004) and the opening of the Smithfield monitoring station (AQS ID# 49-005-0007). The Logan and Smithfield monitoring stations both ran in 2015; however, the Smithfield monitoring site data was incomplete for 2015 because the station, including the co-located continuous monitor, was not operating in January of that year. The Logan monitoring site shut down on December 31, 2015, and Smithfield became the only operating monitor in the Utah portion of the Logan, UT-ID PM2.5 nonattainment area. Additionally, on April 20, 2017, UDAQ submitted a letter that contained the AMP 600 and AMP 450NC reports required to certify the 2016 air quality data in Utah. UDAQ completed the data certification process in AQS and with the April 20, 2017 letter, certifies that the 2016 air quality data is accurate.

The EPA is using data from calendar year 2015 to determine whether the Logan, UT-ID PM2.5 nonattainment area met the air quality criteria for granting a one-year extension of the attainment date, from December 31, 2015 to December 31, 2016, under CAA section 188(d). Additionally, the EPA is using calendar year 2016 data to determine whether the Logan, UT-ID PM2.5 nonattainment area met the air quality criteria for granting an extension of the attainment date from December 31, 2016 to December 31, 2017.

In 2015, the 98th percentile for the Logan, UT-ID PM2.5 nonattainment area at the Logan (Utah) and Franklin (Idaho) monitoring sites were 29.0 µg/m³ and 18.8 µg/m³, respectively, which are both below the 35 µg/m³ standard. Thus, the area met the requirement to qualify for a one-year attainment date extension under CAA section 188(d)(2). See 40 CFR 51.1005(a)(1)(ii). In 2016, the 98th percentile for the Logan, UT-ID PM2.5 nonattainment area at the Smithfield (Utah) and Franklin (Idaho) monitoring sites were 34.4 µg/m³ and 33.3 µg/m³, respectively, which are both below the 35 µg/m³ standard. Thus, the area met the requirements to qualify for a second one-year attainment date extension under CAA section 188(d)(2). Based on the information above, the criterion in 40 CFR 51.1005(a)(1)(ii) has been met for both one-year extensions.

IV. EPA's Proposed Action

In response to requests from the Governor of Utah on May 2, 2017, and from the IDEQ on December 15, 2015, February 26, 2016, and April 25, 2017, the EPA is proposing to grant two, one-year attainment date extensions to the Moderate attainment date for the 2006 24-hour PM2.5 NAAQS for the Logan, UT-ID nonattainment area. If finalized, this action would extend the Moderate area attainment date for the Logan, UT-ID nonattainment area from December 31, 2015 to December 31, 2016, and from December 31, 2016 to December 31, 2017. The proposed action to extend the Moderate attainment date for this nonattainment area is based on both states' compliance with the requirements for the applicable SIPs for the area and on the 2015 and 2016 PM2.5 98th percentile data from the Logan (Utah), Smithfield (Utah), and Franklin (Idaho) monitoring sites in the Logan, UT-ID nonattainment area. If we finalize this proposal, consistent with CAA section 188(d) and 40 CFR 51.1005(a)(1), the nonattainment area will remain a Moderate PM2.5 nonattainment area, with a Moderate area attainment date of December 31, 2017. Additionally, the states will not have to submit the additional planning requirements that apply to Serious PM2.5 nonattainment areas unless the area fails to attain the standard by the extended Moderate area attainment date and the area is reclassified to a Serious PM2.5 nonattainment area. Consistent with CAA section 188(b)(2), the EPA will determine whether the area attained the standard within six months following the applicable attainment date.

This action is not a redesignation to attainment under CAA section 107(d)(3)(E). Utah and Idaho are not currently attaining the NAAQS and have not submitted maintenance plans as required under section 175(A) of the CAA or met the other statutory requirements for redesignation to attainment. The designation status in 40 CFR part 81 will remain a Moderate nonattainment area until such time as Utah and Idaho meet the CAA requirements for redesignation to attainment or the area is reclassified to Serious.

V. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and therefore is not subject to review by the Office of Management and Budget (OMB). This proposed action merely approves a state request as meeting federal requirements and imposes no new requirements.

B. Paperwork Reduction Act (PRA)

This action does not impose any additional information collection burden under the provisions of the PRA, 44 U.S.C. 3501 et seq. This action merely approves a state request for an attainment date extension, and this action does not impose additional requirements beyond those imposed by state law.

C. Regulatory Flexibility Act (RFA)

I certify that this action will not have a significant economic impact on a substantial number of small entities under the RFA. This action will not impose any requirements on small entities beyond those imposed by state law. Approval of a state's request for an attainment date extension does not create any new requirements and does not directly regulate any entities.

D. Unfunded Mandates Reform Act (UMRA)

This action does not contain any unfunded mandate as described in UMRA, 2 U.S.C. 1531-1538, and does not significantly or uniquely affect small governments. This action does not impose additional requirements beyond those imposed by state law. Accordingly, no additional costs to state, local, or tribal governments, or to the private sector, will result from this action.

E. Executive Order 13132: Federalism

This action does not have federalism implications. It will not have substantial direct effects on the states, on the relationship between the national government and the states, or on the distribution of power and responsibilities among the various levels of government. Pursuant to the CAA, this action merely approves a state request for an attainment date extension.

F. Executive Order 13175: Coordination With Indian Tribal Governments

This action does not have tribal implications, as specified in Executive Order 13175. No tribal areas are located in the nonattainment area that will be receiving an attainment date extension. The CAA and the Tribal Authority Rule establish the relationship of the federal government and tribes in developing plans to attain the NAAQS, and this rule does nothing to modify that relationship. Thus, Executive Order 13175 does not apply to this action.

G. Executive Order 13045: Protection of Children From Environmental Health Risks and Safety Risks

This action is not subject to Executive Order 13045 because it is not economically significant as defined in Executive Order 12866, and because the EPA does not believe any environmental health or safety risks addressed by this action present a disproportionate risk to children. This action merely approves a state request for an attainment date extension and it does not impose additional requirements beyond those imposed by state law.

H. Executive Order 13211: Actions That Significantly Affect Energy Supply, Distribution, or Use

This action is not subject to Executive Order 13211, because it is not a significant regulatory action under Executive Order 12866.

I. National Technology Transfer and Advancement Act (NTTAA)

This rulemaking does not involve technical standards. This action merely approves a state request for an attainment date extension.

J. Executive Order 12898: Federal Actions To Address Environmental Justice in Minority Populations and Low-Income Population

The EPA believes that this action does not have disproportionately high and adverse human health or environmental effects on minority populations, low-income populations and/or indigenous peoples, as specified in Executive Order 12898 (59 FR 7629, February 16, 1994). This action approves a state request for an attainment date extension based on the state's compliance with requirements and commitments in its plan and recent air quality monitoring data that meets requirements for an extension.

List of Subjects in 40 CFR Part 52

Environmental protection, Air pollution control, Ammonia, Incorporation by reference, Intergovernmental relations, Nitrogen dioxide, Particulate matter, Reporting and recordkeeping requirements, Sulfur dioxide, Volatile organic compounds.

Authority: 42 U.S.C. 7401 et seq.

Dated: May 25, 2017.
Debra H. Thomas,
Acting Regional Administrator, Region 8.

[FR Doc. 2017-11686 Filed 6-5-17; 8:45 am]

BILLING CODE 6560-50-P